NUCLEAR REGULATORY COMMISSION

Revised Regulatory Guides: Impending Issuance, Availability

AGENCY: U.S. Nuclear Regulatory Commission.

ACTION: Impending Issuance, Availability of Regulatory Guides in Divisions 3, 6, and 10.

FOR FURTHER INFORMATION CONTACT: Andrea D. Valentin, U.S. Nuclear Regulatory Commission, Washington, DC 20555-0001, telephone: 301-415-7143 or e-mail ADW1@nrc.gov.

SUPPLEMENTARY INFORMATION: The U.S. Nuclear Regulatory Commission (NRC) is currently reviewing and revising numerous guides in the agency's “Regulatory Guide” (RG) series. This series was developed to describe, and make available to the public, methods that are acceptable to the NRC staff for implementing specific parts of the NRC's regulations, techniques that the staff uses in evaluating specific problems or postulated accidents, and data that the staff needs in its review of applications for permits and licenses.

FOR FURTHER INFORMATION CONTACT: The NRC has established 10 broad divisions of RGs. The NRC periodically revises its RGs as new guidance becomes available. In some cases, new guidance has been provided through other means (e.g., agency's NUREG reports) and the RGs have not been updated. The following list of RGs in Division 3, “Fuels and Materials Facilities,” Division 6, “Products,” and Division 10, “General,” are now being revised to update the applicable guidance.

RG | Title
3.16 | General Fire Protection Guide for Plutonium Processing and Fuel Fabrication Plants.
3.25 | Standard Format and Content of Safety Analysis Reports for Uranium Enrichment Facilities.
3.38 | General Fire Protection Guide for Fuel Reprocessing Plants.
3.39 | Standard Format and Content of License Applications for Plutonium Processing and Fuel Fabrication Plants.
3.52 | Standard Format and Content for the Health and Safety Sections of License Renewal Applications for Uranium Processing and Fuel Fabrication.
3.65 | Standard Format and Content of Decommissioning Plans for Licensees Under 10 CFR Parts 30, 40, and 70.
3.66 | Standard Format and Content of Financial Assurance Mechanisms Required for Decommissioning Under 10 CFR Parts 30, 40, 70, and 72.
6.1 | Leak Testing Radioactive Brachytherapy Sources.
6.2 | Integrity and Test Specifications for Selected Brachytherapy Sources.
6.4 | Classification of Containment Properties of Sealed Radioactive Sources.
6.5 | General Safety Standard for Installations Using Nonmedical Sealed Gamma-Ray Sources.
6.9 | Establishing Quality Assurance Programs for the Manufacture and Distribution of Sealed Sources and Devices Containing Byproduct Material.
10.2 | Guidance to Academic Institutions Applying for Specific Byproduct Material Licensees of Limited Scope.
10.3 | Guide for the Preparation of Applications for Special Nuclear Material Licenses of Less than Critical Mass.
10.4 | Guide for the Preparation of Applications for Licenses to Process Source Material.
10.5 | Applications for Type A Licenses of Broad Scope.
10.6 | Guide for the Preparation of Applications for Use of Sealed Sources and Devices for Performing Industrial Radiography.
10.7 | Guide for the Preparation of Applications for Licenses for Laboratory and Industrial Use of Small Quantities of Byproduct Material.
10.8 | Guide for the Preparation of Applications for Medical Use Programs.
10.9 | Guide for the Preparation of Applications for Licenses for the Use of Self-Contained Dry Source-Storage Gamma Irradiators.

The NRC staff encourages and welcomes comments and suggestions in connection with improvements to published RGs, as well as items for inclusion in RGs that are currently being developed. You may submit comments by any of the following methods:

1. Mail comments to Rulemaking, Directives, and Editing Branch, Office of Administration, U.S. Nuclear Regulatory Commission, Washington, DC 20555-0001 (MS T-6 D59).

2. Hand-deliver comments to Rulemaking, Directives, and Editing Branch, Office of Administration, U.S. Nuclear Regulatory Commission, 11555 Rockville Pike, Rockville, Maryland 20852, between 7:30 a.m. and 4:15 p.m. on Federal workdays.

3. Fax comments to Rulemaking, Directives and Editing Branch, Office of Administration, U.S. Nuclear Regulatory Commission, at (301) 415-5144.

4. E-mail comments to NRCREP@nrc.gov.

Availability and Dates

These draft revised RGs are expected to be published for review and comment over the next 90 days. The comment period for each RG will be 60 days from the date of its posting on the NRC Web site. The NRC will make each revised RG publicly available through the following electronic distribution methods:

1. The NRC's Electronic Reading Room on the agency's public Web site, under “Regulatory Guides” at http://www.nrc.gov/reading-rm/doc-collections/reg-guides/.

2. The NRC's Agencywide Documents Access and Management System (ADAMS), at http://www.nrc.gov/reading-rm/adams.html (using the ADAMS accession number specified in the footer on the first page of each regulatory guide).

RGs are not copyrighted, and Commission approval is not required to reproduce them. Copies of each RG and other related publicly available documents, including public comments received, can be viewed electronically on computers in the NRC's Public Document Room (PDR), which is located at One White Flint North, 11555 Rockville Pike, Rockville, Maryland, Room O-1 F21, and is open to the public on Federal workdays from 7:45 a.m. until 4:15 p.m. The PDR reproduction contractor will make copies of documents for a fee. If you do not have access to ADAMS or if you encounter problems in accessing the documents stored in ADAMS, contact the PDR Reference Staff at (800) 397-4209 or (301) 415-4737, or by e-mail to PDR@nrc.gov.

Dated at Rockville, Maryland, this 20th day of November, 2007.
For the U.S. Nuclear Regulatory Commission.
Andrea D. Valentin,
Chief, Regulatory Guide Development Branch, Division of Engineering, Office of Nuclear Regulatory Research.

[FR Doc. E7-23221 Filed 11-29-07; 8:45 am]

BILLING CODE 7590-01-P